SECURITIES AND EXCHANGE COMMISSION

[File No. 500-1]

Cybermesh International Corp., Golden Harvest Corporation (a/k/a Disability Access Corporation), Mirenco, Inc., Newport Digital Technologies, Inc., Resource Holdings, Inc., SCOLR Pharma, Inc., and Titan Global Holdings, Inc.; Order of Suspension of Trading

May 15, 2014.

Cybermesh International Corp. (CIK No. 1367617) is a defaulted Nevada corporation located in Albuquerque, New Mexico with a class of securities registered with the Commission pursuant to Exchange Act Section 12(g). Cybermesh International Corp. is delinquent in its periodic filings with the Commission, having not filed any periodic reports since it filed a Form 10-Q for the period ended August 31, 2011, which reported a net loss of $930,580 since the company's August 27, 2008 inception. As of May 6, 2014, the company's stock (symbol “CYTL”) was quoted on OTC Link (previously, “Pink Sheets”) operated by OTC Markets Group, Inc. (“OTC Link”), had eight market makers, and was eligible for the “piggyback” exception of Exchange Act Rule 15c2-11(f)(3). It appears to the Securities and Exchange Commission that there is a lack of current and accurate information concerning the securities of Cybermesh International Corp. because it has not filed any periodic reports since the period ended August 31, 2011.

Golden Harvest Corporation (a/k/a Disability Access Corporation) (CIK No. 1382085) is a Nevada corporation located in Las Vegas, Nevada with a class of securities registered with the Commission pursuant to Exchange Act Section 12(g). Golden Harvest Corporation is delinquent in its periodic filings with the Commission, having not filed any periodic reports since it filed a Form 10-Q for the period ended September 30, 2011, which reported a net loss of $222,768 for the prior nine months. As of May 6, 2014, the company's stock (symbol “DBYC”) was quoted on OTC Link, had four market makers, and was eligible for the “piggyback” exception of Exchange Act Rule 15c2-11(f)(3). It appears to the Securities and Exchange Commission that there is a lack of current and accurate information concerning the securities of Golden Harvest Corporation because it has not filed any periodic reports since the period ended September 30, 2011.

Mirenco, Inc. (CIK No. 1041609) is an Iowa corporation located in Radcliffe, Iowa with a class of securities registered with the Commission pursuant to Exchange Act Section 12(g). Mirenco, Inc. is delinquent in its periodic filings with the Commission, having not filed any periodic reports since it filed a Form 10-Q for the period ended September 30, 2011, which reported a net loss of $120,842 for the prior three months. As of May 6, 2014, the company's stock (symbol “MREO”) was quoted on OTC Link, had five market makers, and was eligible for the “piggyback” exception of Exchange Act Rule 15c2-11(f)(3). It appears to the Securities and Exchange Commission that there is a lack of current and accurate information concerning the securities of Mirenco, Inc. because it has not filed any periodic reports since the period ended September 30, 2011.

Newport Digital Technologies, Inc. (CIK No. 1019216) is a revoked Nevada corporation located in Newport Beach, California with a class of securities registered with the Commission pursuant to Exchange Act Section 12(g). Newport Digital Technologies is delinquent in its periodic filings with the Commission, having not filed any periodic reports since it filed a Form 10-Q for the period ended September 30, 2011, which reported a net loss of $65,343 for the prior three months. As of May 6, 2014, the company's stock (symbol “NPDTE”) was quoted on OTC Link, had six market makers, and was eligible for the “piggyback” exception of Exchange Act Rule 15c2-11(f)(3). It appears to the Securities and Exchange Commission that there is a lack of current and accurate information concerning the securities of Newport Digital Technologies, Inc. because it has not filed any periodic reports since the period ended September 30, 2011.

Resource Holdings, Inc. (CIK No. 1439746) is a defaulted Nevada corporation located in Tustin, California with a class of securities registered with the Commission pursuant to Exchange Act Section 12(g). Resource Holdings, Inc. is delinquent in its periodic filings with the Commission, having not filed any periodic reports since it filed a Form 10-Q for the period ended September 30, 2011. As of May 6, 2014, the company's stock (symbol “SMSA”) was quoted on OTC Link, had four market makers, and was eligible for the “piggyback” exception of Exchange Act Rule 15c2-11(f)(3). It appears to the Securities and Exchange Commission that there is a lack of current and accurate information concerning the securities of Resource Holdings, Inc. because it has not filed any periodic reports since the period ended September 30, 2011.

SCOLR Pharma, Inc. (CIK No. 934936) is a delinquent Delaware corporation located in Bellevue, Washington with a class of securities registered with the Commission pursuant to Exchange Act Section 12(g). SCOLR Pharma, Inc. is delinquent in its periodic filings with the Commission, having not filed any periodic reports since it filed a Form 10-Q for the period ended September 30, 2011, which reported a net loss of $2,519,000 for the prior nine months. As of May 6, 2014, the company's stock (symbol “SCLR”) was quoted on OTC Link, had ten market makers, and was eligible for the “piggyback” exception of Exchange Act Rule 15c2-11(f)(3). It appears to the Securities and Exchange Commission that there is a lack of current and accurate information concerning the securities of SCOLR Pharma, Inc. because it has not filed any periodic reports since the period ended September 30, 2011.

Titan Global Holdings, Inc. (CIK No. 770471) is a Utah corporation located in Dallas, Texas with a class of securities registered with the Commission pursuant to Exchange Act Section 12(g). Titan Global Holdings is delinquent in its periodic filings with the Commission, having not filed any periodic reports since it filed a Form 10-Q for the period ended November 30, 2008, which reported a net loss of over $6,583,000 for the prior three months. As of May 6, 2014, the company's stock (symbol “TTGL”) was quoted on OTC Link, had five market makers, and was eligible for the “piggyback” exception of Exchange Act Rule 15c2-11(f)(3). It appears to the Securities and Exchange Commission that there is a lack of current and accurate information concerning the securities of Titan Global Holdings, Inc. because it has not filed any periodic reports since the period ended November 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 15, 2014, through 11:59 p.m. EDT on May 29, 2014.

By the Commission.
Jill M. Peterson,
Assistant Secretary.

[FR Doc. 2014-11587 Filed 5-15-14; 11:15 am]

BILLING CODE 8011-01-P